DEPARTMENT OF ENERGY

Federal Energy Regulatory Commission

[Docket No. CP10-5-000]

CAlifornians for Renewable Energy, Inc. (CARE); Complainant v. Williams Northwest Pipeline FERC Enforcement Hotline; Respondents; Notice of Complaint

October 13, 2009.

Take notice that on October 8, 2009, pursuant to the Natural Gas Act, 15 U.S.C. 717-717z and section 206 of the Rules and Practice and Procedure, 18 CFR 385.206 (2009), CAlifornians for Renewable Energy, Inc. (CARE) filed a formal complaint against Williams Northwest Pipeline (Williams) and the FERC Enforcement Hotline (Hotline) for Williams' construction of a pig receiver, fence, road, and driveway on CARE member Mary Benafel's property, without accurate and adequate notice, as required by William's blanket certificate, 18 CFR 157.209(d), and without the necessary property rights, as well as the Hotline's mishandling of CARE's informal complaint.

CARE states that copies of the complaint were served on Williams and other interested parties.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 28, 2009.

Kimberly D. Bose,
Secretary.

[FR Doc. E9-25099 Filed 10-16-09; 8:45 am]

BILLING CODE 6717-01-P